NUCLEAR REGULATORY COMMISSION

[NRC-2011-0184; Docket No. 50-482]

Wolf Creek Nuclear Operating Corporation; Notice of Withdrawal of Application for Amendment to Facility Operating License

The U.S. Nuclear Regulatory Commission (the Commission) has granted the request of Wolf Creek Nuclear Operating Corporation (the licensee) to withdraw its September 22, 2010 application, as supplemented by letter dated November 22, 2010, for proposed amendment to Renewed Facility Operating License No. NPF-42 for the Wolf Creek Generating Station (WCGS), located in Coffey County, Kansas.

The proposed amendment would have revised the approved fire protection program as described in the WCGS Updated Safety Analysis Report (USAR). Specifically, the licensee requested approval for a deviation from a commitment to certain technical requirements of Title 10 of the Code of Federal Regulations (10 CFR), part 50, Appendix R, Section III.L.1, “Alternative and dedicated shutdown capability,” as described in Appendix 9.5E of the WCGS USAR. The change would have revised USAR Table 9.5E-1 to include information on reactor coolant system process variables not maintained within those predicted for a loss of normal AC (alternating current) power.

The Commission had previously issued a Notice of Consideration of Issuance of Amendment published in the Federal Register on December 28, 2010 (75 FR 81673). However, by letter dated June 30, 2011, the licensee withdrew the proposed change.

For further details with respect to this action, see the application for amendment dated September 22, 2010, as supplemented by letter dated November 22, 2010, and the licensee's letter dated June 30, 2011, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 9th day of August 2011.
For the Nuclear Regulatory Commission.
James R. Hall,
Senior Project Manager, Plant Licensing Branch IV, Division of Operating Reactor Licensing, Office of Nuclear Reactor Regulation.

[FR Doc. 2011-20793 Filed 8-15-11; 8:45 am]

BILLING CODE 7590-01-P